DEPARTMENT OF THE TREASURY

Submission for OMB Review; Comment Request

January 4, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 13, 2002 to be assured of consideration.

Financial Management Service (FMS)

OMB Number: 1510-0004.

Form Number: FMS 285-A.

Type of Review: Extension.

Title: Schedule of Excess Risks.

Description: Listing of Excess Risks written or assumed by Treasury Certified Companies showing compliance with Treasury Regulations to assist Treasury in determining solvency of Certified companies for the benefit of writing Federal surety bonds.

Respondents: Business or other for-profit.

Estimated Number of Respondents: 296.

Estimated Burden Hours Per Respondent: 20 hours.

Frequency of Response: Quarterly.

Estimated Total Reporting Burden: 5,920 hours.

OMB Number: 1510-0027.

Form Number: POD 1681.

Type of Review: Extension.

Title: Application for Payment of a Deceased Depositor's Postal Savings Certificate.

Description: This form is used when an application is submitted for payment of a deceased Postal Savings depositor's account. Information furnished on the form is used to determine if the applicant is entitled to the proceeds of the account.

Respondents: Individuals or households.

Estimated Number of Respondents: 100.

Estimated Burden Hours Per Respondent: 15 minutes.

Frequency of Response: On occasion.

Estimated Total Reporting Burden: 25 hours.

OMB Number: 1510-0035.

Form Number: None.

Type of Review: Extension.

Title: Assignment Form.

Description: This form is used when an awardholder wants to assign or transfer all or part of his/her award to another person. When this occurs, the awardholder forfeits all future rights to the portion assigned.

Respondents: Individuals or households.

Estimated Number of Respondents: 150.

Estimated Burden Hours Per Respondent: 30 minutes.

Frequency of Response: On occasion.

Estimated Total Reporting Burden: 75 hours.

OMB Number: 1510-0047.

Form Number: TFS 2211.

Type of Review: Extension.

Title: List of Data (A) and List of Data (B).

Description: Information collected from insurance companies to provide Treasury with a basis for determining acceptability of insurance companies applying for a Certificate of Authority to write or reinsure Federal surety bonds or recognition as an Admitted Reinsurer (except or excess risks running to the United States).

Respondents: Business or other for-profit.

Estimated Number of Respondents: 30.

Estimated Burden Hours Per Respondent: 18 hours.

Frequency of Response: On occasion.

Estimated Total Reporting Burden: 540 hours.

OMB Number: 1510-0052.

Form Number: FMS 458 and FMS 459.

Type of Review: Extension.

Title: Financial Institution Agreement and Application Forms for Designation as a Treasury Tax and Loan Depositary and Resolution.

Description: Financial institutions are required to complete an Agreement and Application to participate in the Federal Tax Deposit/Treasury and Loan Program. The approved application designates the depositary as an authorized recipient of taxpayers' deposits for Federal taxes.

Respondents: Business or other for-profit.

Estimated Number of Respondents: 450.

Estimated Burden Hours Per Respondent: 30 minutes.

Frequency of Response: Other (Once for duration of the authorization).

Estimated Total Reporting Burden: 225 hours.

Clearance Officer: Juanita Holder, Financial Management Service, 3700 East West Highway, Room 144, PGP II, Hyattsville, MD 20782.

OMB Reviewer: Alexander T. Hunt, (202) 395-7860, Office of Management and Budget, Room 10202, New Executive Office Building, Washington, DC 20503.

Lois K. Holland,
Departmental Reports, Management Officer.

[FR Doc. 02-875 Filed 1-11-02; 8:45 am]

BILLING CODE 4810-35-M